DEPARTMENT OF ENERGY

Federal Energy Regulatory Commission

[Docket No. OR16-6-000]

Chevron Products Company, HollyFrontier Refining & Marketing LLC, US Airways, Inc., Valero Marketing and Supply Company, and Western Refining Company, L.P. v. SFPP, L.P.; Notice of Complaint

Take notice that on December 4, 2015, pursuant to section 13(1) of the Interstate Commerce Act (ICA),¹ Rule 206 of the Rules of Practice and Procedure of the Federal Energy Regulatory Commission (Commission),² and the Commission's Procedural Rules Applicable to Oil Pipeline Proceedings,³ Chevron Products Company, HollyFrontier Refining & Marketing LLC, US Airways, Inc., Valero Marketing and Supply Company and Western Refining Company, L.P. (Joint Complainants) filed a formal complaint (Complaint) against SFPP, L.P. (Respondent) alleging that Respondent has violated and continues to violate the ICA by charging unjust and unreasonable rates for Respondent's jurisdictional East Line interstate service, all as more fully explained in the Complaint.

¹ 49 U.S.C. App. 13(1).

² 18 CFR 385.206.

³ 18 CFR 343.2.

The Joint Complainants stated that copies of the complaint have been served on the Respondent as listed on the Commission's list of corporate officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on January 4, 2016.

Dated: December 4, 2015.
Nathaniel J. Davis, Sr.,
Deputy Secretary.

[FR Doc. 2015-31125 Filed 12-9-15; 8:45 am]

BILLING CODE 6717-01-P